DEPARTMENT OF LABOR

Employment and Training Administration

[TA-W-55,036]

Spartech Vy-Cal Plastics, Conshohocken, Pennsylvania; Notice of Termination of Investigation

Pursuant to section 221 of the Trade Act of 1974, as amended, an investigation was initiated on June 7, 2004, in response to a worker petition filed by the United Steelworkers of America on behalf of workers at Spartech Vy-Cal Plastics, Conshohocken, Pennsylvania.

The petitioner has requested that the petition be withdrawn. Consequently, the investigation has been terminated.

Signed at Washington, DC, this 16th day of June 2004.
Linda G. Poole,
Certifying Officer, Division of Trade Adjustment Assistance.

[FR Doc. 04-15303 Filed 7-6-04; 8:45 am]

BILLING CODE 4510-30-P